SMALL BUSINESS ADMINISTRATION

National Women's Business Council

AGENCY: U.S. Small Business Administration.

ACTION: Notice of open Federal advisory committee meeting.

SUMMARY: The SBA is issuing this notice to announce the location, date, time, and agenda for the next meeting of the National Women's Business Council (NWBC). The meeting will be open to the public.

DATE: The meeting will be held on Tuesday, July 12, 2011 from approximately 10:30 a.m. to 12:30 p.m., and from 1:10 p.m. to 2:30 p.m. EST.

ADDRESSES: The meeting will be held at the U. S. Small Business Administration Building 409 third Street, NW. in Eisenhower Room A, Washington, DC 20416.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to receive and discuss: legislative updates on policies affecting women entrepreneurs and business owners; updates on NWBC's research agenda; and remaining outreach efforts for fiscal year 2011. Additionally, newly appointed members to the NWBC will be introduced.

FOR FURTHER INFORMATION CONTACT: The meeting is open to the public however advance notice of attendance is requested. Anyone wishing to attend or make a presentation to the NWBC must either e-mail their interest to info@nwbc.gov or call the main office number at 202-205-3850.

For more information, please visit our Web site at http://www.nwbc.gov.

Dan S. Jones,
SBA Committee Management Officer.

[FR Doc. 2011-16207 Filed 6-27-11; 8:45 am]

BILLING CODE P